DEPARTMENT OF THE INTERIOR

Bureau of Safety and Environmental Enforcement

30 CFR Part 250

[Docket ID: BSEE-2026-0100; EEEE500000-256E1700D2-ET1SF0000.EAQ000]

RIN 1014-AA63

Oil and Gas and Sulfur Operations in the Outer Continental Shelf—Revisions to the 2023 Blowout Preventer Systems and Well Control Rule

AGENCY: Bureau of Safety and Environmental Enforcement, Interior.

ACTION: Proposed rule.

SUMMARY: The Department of the Interior (DOI or Department), through the Bureau of Safety and Environmental Enforcement (BSEE), is revising certain regulatory provisions published in the 2023 final well control rule for drilling, workover, completion, and decommissioning operations. BSEE is proposing revisions to clarify certain reporting and recordkeeping requirements. This rule would reduce duplicative submissions and provide consistency and clarity of information available for BSEE review.

DATES: To ensure your comments are considered, BSEE must receive your comments on this proposed rule by March 25, 2026. BSEE may not fully consider comments received after this date. Though this proposed rule does not affect the currently approved information collection, you may submit comments to the Office of Management and Budget (OMB) on the information collection burden under control number 1014-0028 by March 25, 2026. The deadline for comments on the information collection burden does not affect the deadline for the public to comment to BSEE on the proposed regulations.

ADDRESSES: You may submit comments on the proposed rulemaking by any of the following methods. Please use the regulation identifier number (RIN) 1014-AA63 as an identifier in your message.

• Federal eRulemaking Portal: http://www.regulations.gov. In the entry entitled, Enter Keyword or ID, enter BSEE-2026-0100 then click search. Follow the instructions to submit public comments and view supporting and related materials available for this rulemaking. BSEE may post all comments submitted.

• Mail or hand-carry comments to the Department of the Interior, Bureau of Safety and Environmental Enforcement, Attention: Regulations and Standards Branch, 45600 Woodland Road, Sterling, Virginia 20166. Please reference “Revisions to the 2023 Blowout Preventer Systems and Well Control Rule, 1014-AA63” in your comments and include your name and return address.

Public Availability of Comments—Before including your address, phone number, email address, or other personal identifying information in your comment, you should be aware that your entire comment—including your personal identifying information—may be made publicly available at any time. In order for BSEE to withhold from disclosure your personal identifying information, you must identify any information contained in your comment submittal that, if released, would constitute a clearly unwarranted invasion of your personal privacy. You must also briefly describe any possible harmful consequence(s) of the disclosure of the information, such as embarrassment, injury, or other harm. While you can ask us in your comment to withhold your personal identifying information from public review, we cannot guarantee that we will be able to do so.

FOR FURTHER INFORMATION CONTACT: Kirk Malstrom, Regulations and Standards Branch, (202) 258-1518, or by email: regs@bsee.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Executive Summary

This proposed rule would revise certain regulatory provisions that were published in the 2023 final rule entitled “Oil and Gas and Sulfur Operations in the Outer Continental Shelf—Blowout Preventer Systems and Well Control Revisions,” 88 FR 57334 (August 23, 2023) (2023 WCR). On January 20, 2025, the President issued Executive Order (E.O.) 14154 “Unleashing American Energy,” which revoked E.O. 13990 “Protecting Public Health and the Environment and Restoring Science to Tackle the Climate Crisis,” and directed the removal of regulations that impose an undue burden on the identification, development, or use of domestic energy resources.

In response to E.O. 14154, the Secretary of the Interior (Secretary) issued Secretary's Order (S.O.) 3418 “Unleashing American Energy,” which directed all Assistant Secretaries to “review all agency actions and submit an action plan” that includes steps that “as appropriate, will be taken to suspend, revise, or rescind documents,” including the 2023 WCR, to address the potential burden to industry.¹

¹ Secretary's Order 3418, sec. 4., Feb. 3, 2025.

This proposed rule would revise select provisions of the 2023 WCR that, consistent with and as authorized by the Outer Continental Shelf Lands Act (OCSLA), would achieve the objectives of E.O. 14154 and S.O. 3418. BSEE proposes narrowly focused revisions that would streamline certain submission requirements and procedures for operators seeking BSEE approval to use a blowout preventer (BOP). The proposed rule would:

• Clarify the submittal requirements for failure data,

• Modify the timeframes for commencing a failure analysis, and

• Clarify the recordkeeping requirements for independent third-party qualifications.

BSEE will continue to evaluate the effectiveness of the 2023 WCR and all BSEE regulations for any necessary and appropriate rulemakings in the future.

Table of Contents

I. Background

A. BSEE Statutory and Regulatory Authority and Responsibilities

B. Purpose and Summary of the Rulemaking

II. Section-by-Section Discussion of Proposed Changes

III. Procedural Matters

I. Background

A. BSEE Statutory and Regulatory Authority and Responsibilities

The Department's authority for this rule is derived from OCSLA, codified at 43 U.S.C. 1331-1356a. OCSLA, enacted in 1953 and substantially revised in 1978, authorizes the Secretary to lease the Outer Continental Shelf (OCS) for mineral development and to regulate OCS oil and gas exploration, development, and production operations. The Secretary has delegated authority to perform certain of these functions to BSEE under S.O. 3299.²

² https://www.doi.gov/sites/doi.gov/files/elips/documents/3299a2-establishment_of_the_bureau_of_ocean_energy_management_the_bureau_of_safety_and_environmental_enforcement_and_the_office_of_natural_resources_revenue.pdf.

To carry out its responsibilities, BSEE regulates OCS oil and gas operations to enhance the safety of exploration for and development of oil and gas, to ensure those operations protect the environment, and to implement advancements in technology. BSEE also conducts onsite inspections to ensure compliance with regulations, lease terms, and approved plans and permits. Detailed information concerning the BSEE-administered regulations and guidance to the OCS oil and gas industry may be found on BSEE's website at: https://www.bsee.gov/guidance-and-regulations.

BSEE's regulatory program covers a wide range of OCS facilities and activities—including drilling, completion, workover, production, pipeline, and decommissioning operations—that offshore operators ³ perform throughout the OCS. See 30 CFR part 250. This rule is applicable to these listed operational activities (e.g., drilling, completion, and workovers) that involve certain BOP operations, capabilities, or functionalities.

³ The BSEE-administered regulations at 30 CFR part 250 generally apply to “a lessee, the owner or holder of operating rights, a designated operator or agent of the lessee(s)” (30 CFR 250.105 (definition of “you”)) and “the person actually performing the activity to which the requirement applies” (30 CFR 250.146(c)). For convenience, this preamble will refer to these regulated entities as “operators,” unless otherwise indicated.

B. Purpose and Summary of the Rulemaking

After the Deepwater Horizon incident in 2010, BSEE adopted several recommendations from multiple investigation teams to improve the safety of offshore operations. Subsequently, on April 29, 2016, BSEE published the 2016 BOP and well control final rule, 81 FR 25888 (2016 WCR). The 2016 WCR consolidated the equipment and operational requirements for well control into one part of the regulations; enhanced BOP and well design requirements; modified well-control requirements; and incorporated certain industry technical standards.

Although the 2016 WCR addressed a significant number of issues that were identified during the analyses of the Deepwater Horizon incident, BSEE recognized that BOP equipment and systems continue to improve and that well control processes also evolve. Therefore, after the 2016 WCR took effect, BSEE continued to engage with the offshore oil and gas industry, standards development organizations, and other stakeholders. During these engagements, BSEE identified issues, and stakeholders expressed a variety of concerns regarding the implementation of the 2016 WCR. BSEE completed a review of the 2016 WCR and, on May 15, 2019, published the 2019 BOP and well control revisions, 84 FR 21908 (2019 WCR).

The 2019 WCR left most of the 2016 WCR unchanged, but revised certain BOP requirements for well design, well control, casing, cementing, real-time monitoring, and subsea containment. Following 2019 WCR publication, BSEE continued to engage with stakeholders to gather information to ensure that industry was effectively implementing the governing regulatory requirements.

On January 20, 2021, the President issued E.O. 13990, “Protecting Public Health and the Environment and Restoring Science to Tackle the Climate Crisis.” The accompanying “President's Fact Sheet: List of Agency Actions for Review” included the 2019 WCR on a list of rules the President instructed DOI to review for potential revisions to promote and protect public health and the environment. That review confirmed that the 2019 WCR contained many provisions that help ensure that federally regulated OCS oil and gas operations are conducted safely and in an environmentally responsible manner.

On January 20, 2025, the President issued E.O. 14154, which rescinded E.O. 13990 and directed the removal of regulations that impose an undue burden on the identification, development, or use of domestic energy resources. The accompanying S.O. 3418 included the 2023 WCR on a list of rules that the President instructed DOI to review and revise, consistent with and as authorized by the OCSLA, to alleviate potential burdens on industry and to further E.O. 14154 objectives.

BSEE proposes narrowly focused revisions that would improve certain submission requirements and procedures for operators seeking BSEE approval to use a BOP. Specifically, the revisions would (1) clarify the submittal requirements for failure data; (2) modify the timeframes for commencing a failure analysis; and (3) clarify the recordkeeping requirements for independent third-party qualifications.

II. Section-by-Section Discussion of Proposed Changes

The Department is proposing to revise the following regulations:

Subpart G—Well Operations and Equipment

What are the general requirements for BOP systems and system components? (§ 250.730)

This section of the existing regulations includes requirements for the design, installation, maintenance, inspection, repair, testing, and use of BOP systems and system components. This section also requires compliance with certain provisions of API standard 53 and several related industry standards and requires operators to use failure reporting procedures.

Proposed revisions to paragraph (c): BSEE proposes to revise paragraph (c) by removing, throughout the paragraph, the requirement to submit the failure reports to BSEE if BSEE has designated a third party to collect the data and reports. BSEE also proposes to revise paragraph (c)(2) to ensure that the operator starts a failure investigation and analysis within 120 days of the failure instead of within 90 days.

Explanation of proposed revisions to paragraph (c): BSEE's proposed revisions to paragraph (c) would reduce the regulatory burden on operators by simplifying the failure reporting procedures. The proposed revisions would no longer require operators to submit certain duplicate written notices, failure analyses, reports, and data identified in paragraphs (c)(1)-(4). BSEE expects that the simplified reporting requirements will alleviate regulatory burdens on operators without any negative impact on safety and environmental protection, while still allowing BSEE access to the equipment failure results and trends.

Additionally, BSEE proposes to extend the amount of time an operator has to start an investigation and a failure analysis by 30 days. This revision would still allow the operator to conduct the failure analysis within an appropriate timeframe while balancing safe operations and regulatory requirements. This revision does not affect the BOP equipment operational requirements. However, this revision would reduce the potential burden of bringing the BOP equipment to the surface prematurely. Based on BSEE's experience with the applicable BOP operations and routine interactions with the equipment operators since implementation of the 2023 WCR, BSEE is proposing to revise these provisions to be consistent with the 2019 WCR provisions.

What are the independent third-party requirements for BOP systems and system components? (§ 250.732)

This section of the existing regulations describes the required qualifications of an independent third party. It also identifies the circumstances in which an operator must use an independent third party to satisfy certification, verification, or reporting requirements.

Proposed revisions to paragraph (b): BSEE proposes to revise paragraph (b) by requiring the operator to keep the independent third-party qualifications for the life of the project and make them available to BSEE upon request so that BSEE may review the independent third-party accreditation and qualifications to ensure that it has sufficient capabilities to perform the required functions. In comparison, the current regulations require the operator to submit the qualifications to BSEE and states that BSEE will evaluate them.

Explanation of proposed revisions to paragraph (b): The proposed revision to paragraph (b) would remove the default requirement for operators to submit the independent third-party qualifications to BSEE and instead would require such submissions only in response to a request from BSEE. BSEE expects that the proposed revision would provide regulatory relief to the industry by significantly reducing the number of required administrative tasks. These revisions would not limit BSEE's oversight of the independent third parties, as BSEE would still be able to verify the qualifications as necessary. BSEE also anticipates that the regulatory change will not have negative impacts on the safety of offshore operations or environmental protection.

III. Procedural Matters

Regulatory Planning and Review (E.O. 12866 and 13563)

E.O. 12866 provides that the Office of Information and Regulatory Affairs (OIRA) in the OMB will review all significant rules. Under E.O. 12866, OIRA must determine whether a regulatory action is significant and, therefore, subject to E.O. 12866 requirements and review by OMB. Section 3(f) of E.O. 12866 defines a “significant regulatory action” as one that is likely to result in a rule that:

• Has an annual effect on the economy of $100 million or more, or adversely affects in a material way the economy, a sector of the economy, productivity, competition, jobs, the environment, public health or safety, or state, local, or tribal governments or communities (also referred to as “economically significant”);

• Creates serious inconsistency or otherwise interferes with an action taken or planned by another agency;

• Materially alters the budgetary impacts of entitlement grants, user fees, loan programs, or the rights and obligations of recipients thereof; or

• Raises novel legal or policy issues for which centralized review would meaningfully further the President's priorities, or the principles set forth in E.O. 12866.

BSEE retained an outside contractor to prepare an economic analysis to assess the anticipated economic impact of this proposed rule, including the potential costs and benefits. The following discussion summarizes the economic analysis; a complete copy of the economic analysis can be viewed at www.regulations.gov (use the keyword/ID “BSEE-2026-0100”).

Economic Analysis

This economic analysis evaluates the expected impacts of the proposed rule compared with the baseline. Thus, the analysis evaluates only activities, expenditures, and capital investments representing a change from the baseline that would result if the provisions of the proposed rule are finalized. BSEE expects the proposed rule would provide cost relief to industry because it would simplify certain submission requirements and procedures for operators seeking BSEE approval to use a BOP. BSEE quantified and monetized the expected cost savings using 2024 data.

This proposed rule would streamline certain submission requirements and procedures for operators seeking BSEE approval of operations that use a BOP. Table 1 presents the total cost savings per year of the proposed rule. As shown in the table, the estimated savings over the 10-year period are $434,412 undiscounted, $381,679 discounted at 3-percent, and $326,471 discounted at 7-percent.

Table 1—Total 10-Year Cost Savings Associated With Amendments to BOP and WC Regulations
[2025 dollars]
Year | Undiscounted | Discounted at 3% | Discounted at 7%
2026 | $43,441 | $43,441 | $43,441
2027 | 43,441 | 42,176 | 40,599
2028 | 43,441 | 40,948 | 37,943
2029 | 43,441 | 39,755 | 35,461
2030 | 43,441 | 38,597 | 33,141
2031 | 43,441 | 37,473 | 30,973
2032 | 43,441 | 36,381 | 28,947
2033 | 43,441 | 35,322 | 27,053
2034 | 43,441 | 34,293 | 25,283
2035 | 43,441 | 33,294 | 23,629
Total | 434,412 | 381,679 | 326,471
Annualized | 43,441 | 38,168 | 32,647
Note: Annualized costs are calculated by the annuity method.

BSEE welcomes comments on this analysis, including potential sources of data or information on the costs and benefits of this proposed rule.

E.O. 13563 reaffirms the principles of E.O. 12866, while calling for improvements in the Nation's regulatory system to promote predictability, reduce uncertainty, and use the best, most innovative, and least burdensome tools for achieving regulatory ends. E.O. 13563 directs agencies to consider regulatory approaches that reduce burdens and maintain flexibility and freedom of choice for the public where these approaches are relevant, feasible, and consistent with regulatory objectives. E.O. 13563 emphasizes further that agencies must base regulations on the best available science and that the rulemaking process must allow for public participation and an open exchange of ideas. BSEE developed this proposed rule in a manner consistent with these requirements.

OIRA determined this proposed rule is not a significant regulatory action under E.O. 12866.

Regulatory Flexibility Act and the Congressional Review Act

DOI certifies that this rule, if finalized, is unlikely to have a significant economic effect on a substantial number of small entities as defined under the Regulatory Flexibility Act, 5 U.S.C. 601 et seq. (RFA).

The RFA requires agencies to analyze the economic impact of regulations when there is likely to be a significant economic impact on a substantial number of small entities. Consideration must be given to regulatory alternatives that could achieve the agency's goals while minimizing burdens on small entities. Section 605 of the RFA allows an agency to certify a rule, in lieu of preparing an analysis, if the regulation will not have a significant economic impact on a substantial number of small entities. Further, the Small Business Regulatory Enforcement Fairness Act of 1996, Public Law 104-121 (March 29, 1996), as amended, requires agencies to produce compliance guidance for small entities if the rule has a significant economic impact on a substantial number of small entities. The Acting Assistant Secretary, Land and Minerals Management, certifies that th11is rule, if finalized, will not have a significant economic impact on a substantial number of small entities as defined under the RFA.

Unfunded Mandates Reform Act of 1995

This proposed rule would not impose an unfunded mandate on State, local, or Tribal governments or the private sector of more than $100 million per year. The proposed rule would not have a significant or unique effect on State, local, or Tribal governments or the private sector. A statement containing the information required by Unfunded Mandates Reform Act (2 U.S.C. 1531 et seq.) is not required.

Takings Implication Assessment (E.O. 12630)

Under the criteria in E.O. 12630, this proposed rule would not have significant takings implications. The rule is not a governmental action capable of interference with constitutionally protected property rights. A takings implication assessment is not required.

Federalism (E.O. 13132)

Under the criteria in E.O. 13132, this proposed rule would not have federalism implications. This proposed rule would not substantially and directly affect the relationship between the Federal and State governments. To the extent that State and local governments have a role in OCS activities, this proposed rule would not affect that role. A federalism assessment is not required.

Civil Justice Reform (E.O. 12988)

This proposed rule complies with the requirements of E.O. 12988. Specifically, this rule:

(1) Meets the criteria of section 3(a) requiring that all regulations be reviewed to eliminate errors and ambiguity and be written to minimize litigation; and

(2) Meets the criteria of section 3(b)(2) requiring that all regulations be written in clear language and contain clear legal standards.

Consultation With Indian Tribes (E.O. 13175)

BSEE strives to strengthen its government-to-government relationships with federally recognized Indian Tribes through a commitment to consultation with the Tribes and recognition of Tribal right to self-governance and sovereignty. BSEE is also respectful of its responsibilities for consultation with Alaska Native Claims Settlement Act (ANCSA) corporations. BSEE is committed to compliance with DOI's policy on consultation with Indian Tribes and Alaska Native Claims Settlement Act corporations (512 Departmental Manual 4, dated November 30, 2022, and 512 Departmental Manual 6, dated November 30, 2022, respectively), and DOI's procedures for consultation with Indian Tribes and Alaska Native Claims Settlement Act corporations (512 Departmental Manual 5, dated November 30, 2022, and 512 Departmental Manual 7, dated November 30, 2022, respectively) to determine whether this proposed rule would have substantial direct effects on federally recognized Indian Tribes.

Based on BSEE's preliminary evaluation, BSEE determined that this rule would not have substantial direct effects on federally recognized Indian Tribes, on the relationship between the Federal government and federally recognized Indian Tribes, or on the distribution of power and responsibilities between the Federal government and federally recognized Indian Tribes. Therefore, DOI's procedures for consultations with Tribal Nations and ANCSA corporations do not require consultation.

Paperwork Reduction Act (PRA) of 1995

This proposed rule contains no changes to the existing information collection requirements approved by OMB control number 1014-0028 for regulations at 30 CFR part 250, subpart G. Consequently, BSEE is not required to submit an information collection request to OMB for review under the Paperwork Reduction Act of 1995 (44 U.S.C. 3501 et seq.).

National Environmental Policy Act of 1969 (NEPA)

BSEE is analyzing the provisions of the proposed rule in compliance with the National Environmental Policy Act of 1969 (NEPA) (42 U.S.C. 4321 et seq.) to determine whether it could have a significant impact on the quality of the human environment. Environmental assessments were prepared for the 2016 WCR, 2019 WCR, and 2023 WCR. Those prior NEPA analyses informed the drafting process for this proposed rule, which primarily proposes to restore provisions whose potential environmental impacts BSEE analyzed in connection with those prior rules (some of which were purely administrative in nature with no potential for environmental impacts). Accordingly, BSEE anticipates that the environmental assessments associated with the 2016 WCR, 2019 WCR, and 2023 WCR will substantially inform the NEPA process and compliance for this rulemaking. We invite comments on this subject.

Data Quality Act

In developing this rule, BSEE did not conduct or use a study, experiment, or survey requiring peer review under the Data Quality Act (Pub. L. 106-554, app. C, sec. 515, 114 Stat. 2763, 2763A-153-154).

Effects on the Nation's Energy Supply (E.O. 13211)

This proposed rule is not a significant energy action under the definition in E.O. 13211. The rule is not a significant regulatory action under E.O. 12866, and it is not likely to have a significant adverse effect on the supply, distribution, or use of energy. A statement of energy effects is therefore not required.

Clarity of This Regulation

We are required by E.O. 12866, E.O. 12988, and by the Presidential memorandum of June 1, 1998, to write all rules in plain language. This means that each rule we publish must:

(1) Be logically organized;

(2) Use the active voice to address readers directly;

(3) Use clear language rather than jargon;

(4) Be divided into short sections and sentences; and

(5) Use lists and tables wherever possible.

If you feel that BSEE has not met these requirements, send comments by one of the methods listed in the ADDRESSES section. To help improve this rule, your comments should be as specific as possible. For example, you should tell us the numbers of the sections or paragraphs that you find unclear, which sections or sentences are too long, or the sections where you feel lists or tables would be useful.

List of Subjects in 30 CFR Part 250

Administrative practice and procedure, Continental shelf, Environmental impact statements, Environmental protection, Government contracts, Investigations, Mineral resources, Oil and gas exploration, Penalties, Pipelines, Outer Continental Shelf-mineral resources, Outer Continental Shelf-rights-of-way, Reporting and recordkeeping requirements, Sulfur.

Lanny E. Erdos,
Director, Office of Surface Mining, Reclamation, and Enforcement Exercising Authority of the Assistant Secretary, Land and Minerals Management.

For the reasons stated in the preamble, the Department of the Interior amends 30 CFR part 250 as follows:

PART 250—OIL AND GAS AND SULFUR OPERATIONS IN THE OUTER CONTINENTAL SHELF

1. The authority citation for part 250 continues to read as follows:

Authority: 30 U.S.C. 1751, 31 U.S.C. 9701, 33 U.S.C. 1321(j)(1)(C), 43 U.S.C. 1334.

2. Amend § 250.730 by revising paragraph (c) to read as follows:

§ 250.730 What are the general requirements for BOP systems and system components?

* * * * *

(c) You must follow the failure reporting procedures contained in API standard 53 (incorporated by reference in § 250.198) and:

(1) You must provide a written notice of equipment failure to the Office of Offshore Regulatory Programs (OORP) chief, unless BSEE has designated a third party, as provided in paragraph (c)(4) of this section, and to the manufacturer of such equipment, within 30 days after discovery and identification of the failure. If BSEE has designated a third party, you must provide the written notice of equipment failure to that third party, instead of sending it to the OORP chief, and also to the manufacturer of such equipment within 30 days after the discovery and identification of the failure. A failure is any condition that prevents the equipment from meeting the functional specification.

(2) You must start an investigation and a failure analysis within 120 days of the failure to determine the cause of the failure and complete the investigation and the failure analysis within 120 days after initiation. You also must document the results and any corrective action. You must submit the analysis report to the OORP chief, unless BSEE has designated a third party as provided in paragraph (c)(4) of this section, and the manufacturer. If you cannot complete the investigation and analysis within the specified time, you must submit an extension request detailing when and how you will complete the investigation and analysis and submit it to BSEE for approval. You must submit the extension request to the OORP chief.

(3) If the equipment manufacturer notifies you that it has changed the design of the equipment that failed or if you have changed operating or repair procedures as a result of a failure, then you must, within 30 days of such changes, report the design change or modified procedures in writing to the OORP Chief, unless BSEE has designated a third party as provided in paragraph (c)(4) of this section.

(4) Submit notices and reports to the Chief, Office of Offshore Regulatory Programs; Bureau of Safety and Environmental Enforcement; 45600 Woodland Road, Sterling, Virginia 20166. BSEE may also designate a third party to receive the data and reports. If BSEE designates a third party, you must submit the data and reports to the designated third party.

* * * * *

3. Amend § 250.732 by revising paragraph (b) to read as follows:

§ 250.732 What are the independent third-party requirements for BOP systems and system components?

* * * * *

(b) The independent third party must be a technical classification society, a licensed professional engineering firm, or a registered professional engineer capable of providing the required certifications and verifications. You must retain the independent third-party qualifications for the life of the project and make them available to BSEE upon request. BSEE may evaluate the independent third-party qualifications to ensure they meet the regulatory requirements for permit approval.

* * * * *

[FR Doc. 2026-03476 Filed 2-20-26; 8:45 am]

BILLING CODE 4310-VH-P